SMALL BUSINESS ADMINISTRATION

Public Federal Regulatory Enforcement Fairness Hearing; Region IV Regulatory Fairness Board

The Small Business Administration Region IV Regulatory Fairness Board and the SBA Office of the National Ombudsman, will hold a Public Hearing on Monday, January 28, 2002 at 8:30 AM at the Radisson Plaza Hotel—Downtown Orlando, 60 South Ivanhoe Boulevard, Orlando, FL 32804, Phone (407) 425-4455, Fax (407) 313-6043, to receive comments and testimony from small business owners, small government entities, and small non-profit organizations concerning the regulatory enforcement and compliance actions taken by federal agencies.

Anyone wishing to attend or to make a presentation must contact Ms. Lola Kress in writing or by fax, in order to be put on the agenda. Lola Kress, SBA North Florida District Office, 7825 Baymeadows Way, Suite 100-B, Jacksonville, FL 32256-7504, Phone (904) 443-1933, fax (202) 481-4188, E-mail: Lola.Kress@sba.gov.

For more information see our web site at http://www.sba.gov/ombudsman/dsp_hearings.html.

Steve Tupper,
Committee Management Officer.

[FR Doc. 02-932 Filed 1-14-02; 8:45 am]

BILLING CODE 8025-01-P